NATIONAL CREDIT UNION ADMINISTRATION

Sunshine Act; Notice of Meeting

TIME AND DATE: 10 a.m., Thursday, January 19, 2006.

PLACE: Board Room, 7th Floor, Room 7047, 1775 Duke Street, Alexandria, VA 22314-3428.

STATUS: Open.

MATTERS TO BE CONSIDERED:

1. Proposed Rule: Interpretive Ruling and Policy Statement (IRPS) 06-1, Section 701.1 of NCUA's Rules and Regulations, Amendments to NCUA's Chartering and Field of Membership Policies.

2. Final Rule: Section 741.6(a) of NCUA's Rules and Regulations, Financial and Statistical and Other Reports.

3. Final Rule: Section 701.34 of NCUA's Rules and Regulations, Uninsured Secondary Capital Accounts.

4. Final Rule: Part 742 of NCUA's Rules and Regulations, Regulatory Flexibility Program.

RECESS: 11:15 a.m.

TIME AND DATE: 11:30 a.m., Thursday, January 19, 2006.

PLACE: Board Room, 7th Floor, Room 7047, 1775 Duke Street, Alexandria, VA 22314-3428.

Status: Closed.

MATTERS TO BE CONSIDERED:

1. Administrative Action under Section 206(h)(1)(A) of the Federal Credit Union Act. Closed pursuant to Exemptions (8), (9)(A)(ii), and (9)(B).

2. One (1) Insurance Appeal. Closed pursuant to Exemption (6).

FOR FURTHER INFORMATION CONTACT: Mary Rupp, Secretary of the Board, Telephone: 703-518-6304.

Mary Rupp,
Secretary of the Board.

[FR Doc. 06-460 Filed 1-12-06; 3:50 pm]

BILLING CODE 7535-01-M